DEPARTMENT OF TRANSPORTATION

Federal Highway Administration

National Safe Routes to School Task Force to the Secretary of Transportation

AGENCY: Federal Highway Administration (FHWA), DOT.

ACTION: Notice of meeting of advisory committee.

SUMMARY: This document announces a meeting of the National Safe Routes to School Task Force to the Secretary of Transportation. This is the second meeting of the Task Force. The purpose of the Task Force is to advise the Secretary of Transportation, through the Federal Highway Administration (FHWA) Office of Safety, on strategies to advance Safe Routes to School (SRTS) Programs nationwide and to encourage children, including those with disabilities, to walk and bicycle to school pursuant to Section 1404(h) of the Safe, Accountable, Flexible, Efficient Transportation Equity Act: A Legacy for Users (SAFETEA-LU) (Pub. L. 109-59, Aug. 10, 2005). This meeting is open to the public and will have time allocated for public testimony. The public is welcome to present written or oral comments to the Task Force.

DATES: The second meeting of the Task Force is scheduled for April 19, 2007, from 8:30 a.m. to 5 p.m., e.t.

ADDRESSES: The meeting will be held at The Holiday Inn Capitol, 550 C Street, SW., Washington, DC 20024.

FOR FURTHER INFORMATION CONTACT: Mr. Tim Arnade, the Designated Federal Official, Safe Routes to School Program Manager, FHWA Office of Safety Programs, (202) 366-2205 (Tim.Arnade@dot.gov); Federal Highway Administration, 400 Seventh Street, SW., Washington DC 20590.

SUPPLEMENTARY INFORMATION:

Background

Section 1404 of SAFETEA-LU required the Secretary of Transportation to establish a Safe Routes to School (SRTS) Program. The purpose of the program is to enable and encourage children, including those with disabilities, to walk and bicycle to school and to make bicycling and walking to school a safer and more appealing transportation alternative. Section 1404(h) requires the establishment of a National SRTS Task Force. This is the second meeting of the Task Force. The first meeting was held on January 11, 2007, in Washington, DC. All 17 members of the Task Force attended the first meeting. Complete meeting minutes from the first meeting are posted on the Web site listed below.

The agenda for the second meeting will include discussion of strategies to advance SRTS programs nationwide and discussion of a draft outline for a report to the Secretary of Transportation. Public comments will be taken at approximately 2:45 p.m. e.t. Further information about the Task Force can be found at http://www.saferoutesinfo.org/task_force/. Once a detailed agenda is developed, it will be posted on this Web site. Please note, agenda items are subject to change as priorities dictate.

Conclusion

The second meeting of the National Safe Routes to School Task Force will be held on April 19, 2007, at the Holiday Inn Capitol, 550 C Street, SW., Washington, DC 20024, from 8:30 a.m. to 5 p.m., e.t.

(Authority: Section 1404(h), Pub. L. 109-59; 5 U.S.C., App. II § 1)

Issued on: March 2, 2007.
J. Richard Capka,
Federal Highway Administrator.

[FR Doc. E7-4210 Filed 3-8-07; 8:45 am]

BILLING CODE 4910-22-P